DEPARTMENT OF THE INTERIOR

National Park Service

Cedar Creek and Belle Grove National Historical Park Advisory Commission; Notice of Public Meetings

AGENCY: Department of the Interior, National Park Service, Cedar Creek and Belle Grove National Historical Park Advisory Commission.

ACTION: Notice of meetings.

SUMMARY: Notice is hereby given in accordance with the Federal Advisory Committee Act that meetings of the Cedar Creek and Belle Grove National Historical Park Advisory Commission will be held to discuss the development and implementation of the Park's general management plan.

Date: September 16, 2010.

Location: Warren County Government Center, 220 North Commerce Avenue, Front Royal, VA.

Date: December 16, 2010.

Location: Strasburg Town Hall Council Chambers, 174 East King Street, Strasburg, VA.

Date: March 17, 2011.

Location: Middletown Town Council Chambers, 7875 Church Street, Middletown, VA.

Date: June 16, 2011

Location: Warren County Government Center, 220 North Commerce Avenue, Front Royal, VA.

All meetings will convene at 8:30 a.m. and are open to the public.

FOR FURTHER INFORMATION CONTACT: Diann Jacox, Superintendent, Cedar Creek and Belle Grove National Historical Park, (540) 868-9176.

SUPPLEMENTARY INFORMATION: Topics to be discussed at the meetings include: review of draft general management plan, land protection planning, historic preservation, and visitor interpretation.

The Park Advisory Commission was designated by Congress to advise on the preparation and implementation of the park's general management plan. Individuals who are interested in the Park, the development and implementation of the plan, or the business of the Advisory Commission are encouraged to attend the meetings.

Dated: July 22, 2010.
Diann Jacox,
Superintendent, Cedar Creek and Belle Grove National Historical Park.

[FR Doc. 2010-19076 Filed 8-3-10; 8:45 am]

BILLING CODE 4310-AR-P